DEPARTMENT OF HOMELAND SECURITY

Coast Guard

33 CFR Part 165

[Docket No. USCG-2023-0279]

Safety Zones; Fireworks Displays in the Fifth Coast Guard District—Lewes, DE

AGENCY: Coast Guard, DHS.

ACTION: Notification of enforcement of regulation.

SUMMARY: The Coast Guard will enforce the Delaware Bay, Lewes, DE; Safety Zone from 9 p.m. through 10 p.m. on July 4, 2023, or on a rain date of July 5, 2023, to provide for the safety of life on navigable waterways during a barge-based fireworks display. During the enforcement period, no person or vessel may enter, remain in, or transit through the regulated area, and anyone in the vicinity must comply with directions from the Patrol Commander or any Official Patrol displaying a Coast Guard ensign.

DATES: The portion of the regulation 33 CFR 165.506 for Lewes, DE, as identified in entry 12 of table 1 to paragraph (h)(1), will be enforced from 9 p.m. through 10 p.m. on July 4, 2023, or on a rain date of July 5, 2023.

FOR FURTHER INFORMATION CONTACT: If you have questions about this notice of enforcement, you may call or email Petty Officer Dylan Caikowski, U.S. Coast Guard, Sector Delaware Bay, Waterways Management Division, telephone 215-271-4814, email SecDelBayWWM@uscg.mil.

SUPPLEMENTARY INFORMATION:

The Coast Guard will enforce the safety zone in table 1 to paragraph (h)(1) to 33 CFR 165.506, entry No. 12, for a barge-based fireworks display from 9 p.m. through 10 p.m. on July 4, 2023, or on a rain date of July 5, 2023. This action is necessary to ensure safety of life on the navigable waters of the United States immediately prior to, during, and immediately after a fireworks display. Our regulation for safety zones of fireworks displays within the Fifth Coast Guard District, table 1 to paragraph (h)(1) to 33 CFR 165.506, entry 12 specifies the location of the regulated area as all waters of the Delaware Bay off Lewes, DE, within a 350-yard radius of the fireworks barge position. The approximate position for the display is latitude 38°47′12″ N, longitude 075°07′48″ W. During the enforcement period, as reflected in § 165.506(d), vessels may not enter, remain in, or transit through the safety zone unless authorized by the Captain of the Port or designated Coast Guard patrol personnel on-scene.

In addition to this notice of enforcement in the Federal Register, the Coast Guard will provide notification of this enforcement period via Local Notice to Mariners and Broadcast Notice to Mariners.

Dated: May 30, 2023.
Jonathan D. Theel,
Captain, U.S. Coast Guard Captain of the Port Delaware Bay.

[FR Doc. 2023-12014 Filed 6-5-23; 8:45 am]

BILLING CODE 9110-04-P